DEPARTMENT OF ENERGY

Bonneville Power Administration

Wallula-McNary Transmission Line Project and Wallula Power Project

AGENCY: Bonneville Power Administration (BPA), Department of Energy (DOE).

ACTION: Notice of availability of Record of Decision (ROD).

SUMMARY: This notice announces the availability of the ROD for the Wallula-McNary Transmission Line Project and Wallula Power Project, based on the Final Environmental Impact Statement (DOE/EIS-0330, August 2002). BPA has decided to implement its portion of the proposed action identified in the Final EIS, which includes interconnection with the Federal Columbia River Transmission System (FCRTS) of a power plant that Wallula Generation LLC (Wallula LLC) has proposed to construct. The interconnection would be accomplished through the construction of a new transmission line and substation, and negotiation of interconnection and transmission agreements with Wallula LLC or its successor.

ADDRESSES: Copies of the ROD and EIS may be obtained by calling BPA toll-free at 1-888-276-7790. The ROD and EIS Summary are also available on the Transmission Business Line Web site at http://www.transmission.bpa.gov/projects.

FOR FURTHER INFORMATION CONTACT: Donald L. Rose, Bonneville Power Administration—KEC-4, P.O. Box 3621, Portland, Oregon 97208-3621; toll-free telephone number 1-800-282-3713; fax number 503-230-5699; or e-mail dlrose@bpa.gov.

SUPPLEMENTARY INFORMATION: The proposed Wallula Project is a 1,300-megawatt (MW) natural-gas-fired, combined-cycle turbine power plant that Wallula LLC is planning to construct on a site near the Columbia River in Walla Walla County, Washington, approximately eight miles south of the City of Pasco. BPA will construct a new 5.1-mile, 500-kilovolt (kV) transmission line to interconnect the Wallula Project with the FCRTS and the new Smiths Harbor Substation, where the interconnection will be located. The new substation will be located adjacent to the existing 500-kV Lower Monumental-McNary transmission line, which is a part of the FCRTS. Power generated by the Wallula Project will be made available for purchase in the wholesale power market.

Wallula LLC has also requested firm transmission service be available on the FCRTS to John Day and Big Eddy Substations. The proposed action evaluated in the EIS included an additional 28 miles of 500-kV line that was expected to be needed for firm transmission service to John Day and Big Eddy. The need for the 28-mile segment of line diminished as other proposed generation projects that requested firm transmission on existing transmission lines were cancelled or put on hold. This has resulted in adequate transmission capacity for Wallula Project service becoming available on the existing Lower Monumental-McNary line. Although construction of all project components and negotiation of contract agreements were originally expected to be completed by Fall of 2004, the current schedule is uncertain.

For BPA, implementing the proposed action involves offering contract terms to Wallula LLC or its successor for interconnecting the Wallula Project into the FCRTS and providing firm transmission service to John Day and Big Eddy Substations. Under these contracts, BPA will construct, operate, and maintain the necessary interconnection facilities (including the new transmission line and substation) and integrate power from the Wallula Project into the FCRTS. Firm transmission service will require transmission capacity be available on the existing Lower Monumental-McNary transmission line. All practicable means to avoid or minimize environmental harm from the alternative selected have been adopted and will be implemented in accordance with Appendix A of the Final EIS, Revised Mitigation Measures.

Issued in Portland, Oregon, on March 10, 2003.
Stephen J. Wright,
Administrator and Chief Executive Officer.

[FR Doc. 03-6690 Filed 3-19-03; 8:45 am]

BILLING CODE 6450-01-P